DEPARTMENT OF EDUCATION

Privacy Act of 1974; Computer Matching Program

AGENCY: Department of Education.

ACTION: Notice—Computer Matching between the Department of Education and the Department of Homeland Security, United States Citizenship and Immigration Services, formerly the Immigration and Naturalization Service.

SUMMARY: Pursuant to the Office of Management and Budget (OMB) Final Guidance Interpreting the Provisions of Public Law 100-503, the Computer Matching and Privacy Protection Act of 1988 (54 FR 25818 (June 19, 1989)) and OMB Circular A-130, Appendix I (65 FR 77677 (December 12, 2000)) notice is hereby given of the computer matching program between the Department of Education (ED) (the recipient agency), and the Department of Homeland Security, United States Citizenship and Immigration Services (USCIS) (the source agency).

In accordance with the Privacy Act of 1974 (5 U.S.C. 552a), as amended by the Computer Matching and Privacy Protection Act of 1988, and OMB Circular A-130, the following information is provided:

1. Names of Participating Agencies.

The U.S. Department of Education and the U.S. Department of Homeland Security, USCIS.

2. Purpose of the Match.

The matching program entitled “Verification Division USCIS/ED” will permit ED to confirm the immigration status of alien applicants for, or recipients of, financial assistance under Title IV of the Higher Education Act of 1965, as amended (HEA), as authorized by section 484(g) of the HEA (20 U.S.C. 1091(g)). The Title IV programs include: the Federal Pell Grant Program; the Academic Competitiveness Grant Program; the National Science and Mathematics Access to Retain Talent Grant Program; the Iraq and Afghanistan Service Grant Program; the Federal Perkins Loan Program; the Federal Work-Study Program; the Federal Supplemental Educational Opportunity Grant Program; the Federal Family Education Loan Program; the William D. Ford Federal Direct Loan Program; the Leveraging Educational Assistance Partnership Program; and the Gaining Early Awareness and Readiness for Undergraduate Programs.

3. Authority for Conducting the Matching Program.

The information contained in the USCIS data base is referred to as the Verification Information System (VIS), and is authorized under the Immigration Reform and Control Act of 1986 (IRCA), Public Law 99-603. ED seeks access to the VIS database for the purpose of confirming the immigration status of applicants for assistance, as authorized by section 484(g) of the HEA, 20 U.S.C. 1091(g), and consistent with the Title IV student eligibility requirements of section 484(a)(5) of the HEA, 20 U.S.C. 1091(a)(5). USCIS is authorized to participate in this immigration status verification under section 103 of the Immigration and Nationality Act, as amended, 8 U.S.C. 1103.

4. Categories of Records and Individuals Covered.

The records to be used in the match and the roles of the matching participants are described as follows: Through the use of user identification codes and passwords, authorized persons from ED will transmit electronically data from its Privacy Act system of records entitled, “Federal Student Aid Application File (18-11-01)” to USCIS. The data will include the alien registration number, the first and last name, date of birth, current social security number and gender of the alien applicant for, or recipient of, Title IV assistance. This action will initiate a search for corresponding data elements in a USCIS Privacy Act system of records entitled “Verification Information System Records Notice (DHS-2007-0010).” Where there is a match of records, the system will add the following data to the record and return the file to ED: the primary or secondary verification number, the date of entry into the U.S., the country of birth, and the USCIS status code of the alien applicant or recipient, and a code indicating that the alien applicant or recipient was confirmed to be an eligible non-citizen or that this determination could not be made. In accordance with 5 U.S.C. 552a(p), ED will not suspend, terminate, reduce, or make a final denial of any Title IV assistance to such individual, or take other adverse action against such individual, as a result of information produced by such a match, until (1)(a) ED has independently verified the information; or (b) the Data Integrity Board of ED determines in accordance with guidance issued by the Director of the OMB that (i) the information is limited to identification and amount of benefits paid by ED under a Federal benefit program; and (ii) there is a high degree of confidence that the information provided to ED is accurate; (2) the individual receives a notice from ED containing a statement of its findings and informing the individual of the opportunity to contest such findings by submitting documentation demonstrating a satisfactory immigration status within 30 days of receipt of the notice; and (3) 30 days from the date of the individual's receipt of such notice has expired.

5. Effective Dates of the Matching Program.

The matching program will become effective 40 days after a copy of the computer matching agreement, as approved by the Data Integrity Board of each agency, is transmitted to Congress and OMB, unless the requested ten day waiver is approved by OMB or unless OMB objects to some or all of the agreement, or 30 days after publication of this notice in the Federal Register, whichever date is later. The matching program will continue for 18 months after the effective date and may be extended for an additional 12 months thereafter, if the conditions specified in 5 U.S.C. 552a(o)(2)(D) have been met.

6. Address for Receipt of Public Comments or Inquires.

Mr. Leroy Everett, Management and Program Analyst, U.S. Department of Education, Federal Student Aid, Union Center Plaza, 830 First Street, NE., Washington, DC 20002-5345. Telephone: (202) 377-3265. If you use a telecommunications device for the deaf (TDD), call the Federal Relay Service (FRS), toll free, at 1-800-877-8339.

Individuals with disabilities can obtain this document in an accessible format (e.g., braille, large print, audiotape or computer diskette) on request to the contact person listed in the preceding paragraph.

Electronic Access to This Document

You can view this document, as well as all other documents of this Department published in the Federal Register, in text or Adobe Portable Document Format (PDF) on the Internet at the following site: http://www.ed.gov/news/fedregister. To use the PDF you must have Adobe Acrobat Reader, which is available free at this site.

Note: The official version of this document is the document published in the Federal Register. Free Internet access to the official edition of the Federal Register and the Code of Federal Regulations is available on GPO access at: http://www.gpoaccess.gov/nara/index.html.*

Authority: 5 U.S.C. 552a; Pub. L. No. 100-503.

Dated: March 10, 2010.
William J. Taggart,
Chief Operating Officer Federal Student Aid.

[FR Doc. 2010-5613 Filed 3-12-10; 8:45 am]

BILLING CODE 4000-01-P